DEPARTMENT OF TRANSPORTATION

Federal Transit Administration

Alternatives Analysis/Environmental Impact Statement for Rapid Transit in Utah County, UT

AGENCY: Federal Transit Administration (FTA), U.S. Department of Transportation (DOT).

ACTION: Notice of Intent To Prepare an Alternatives Analysis/Environmental Impact Statement.

SUMMARY: The Federal Transit Administration (FTA), Utah Transit Authority (UTA), and Mountainland Association of Governments (MAG) intend to prepare an Alternatives Analysis/Environmental Impact Statement (AA/EIS) for potential high-capacity fixed-guideway transit improvements and roadway infrastructure improvements in Utah County, Utah. The project's purposes are to serve transit markets along the corridor including two universities (Brigham Young University and Utah Valley State College), existing and planned student housing, retail malls, several employment centers, historic downtown Provo, and two major regional intermodal centers; provide circulation and distribution for future transit projects including commuter rail; and to accommodate future travel demand while maintaining efficient traffic flow. The project termini are the planned Orem intermodal center near Utah Valley State College (UVSC) on the north and a location near the Provo Towne Center Mall and East Bay Business Complex (Novell Campus) on the south. The general location of the corridor is on or near University Parkway and University Avenue in Utah County and length of the project is approximately 9 miles. The timeframe for the environmental review process is from January 2008 to January 2010.

The AA/EIS will be prepared in accordance with section 102(2)c of the National Environmental Policy Act of 1969 (NEPA) and pursuant to the Council on the Environmental Quality's regulations (40 CFR parts 1500-1508), FTA/FHWA joint regulations (23 CFR 771) as well as provisions of the Safe, Accountable, Flexible Efficient Transportation Equity Act: A Legacy for Users (SAFETEA-LU). The purpose of this notice is to alert interested parties regarding the intent to prepare the AA/EIS, to provide information on the nature of the proposed project and possible alternatives, to invite public participation in the NEPA process (including providing comments on the scope of the AA/EIS), and to announce that a public scoping meeting will be conducted.

The AA/EIS will examine and evaluate a number of transit alternatives in the corridor. Any additional alternatives generated by the scoping process as well as the proposed station locations for the Build alternatives will also be considered. The alternatives will be compared to a No-Action Alternative for evaluation purposes.

Scoping for the AA/EIS will be accomplished through a public meeting; e-mail and hard copy correspondence with interested individuals and organizations, Federal, State, and local agencies, and Native American Tribes; and through a meeting with cooperating and participating public agencies. Interested parties may comment by: (1) E-mailing provo-oremrapidtransit@hwlochner.com; (2) visiting the project Web site at http://www.provo-oremrapidtransit.info; (3) mailing written comments to the address below, or (4) attending the public scoping meeting, described below under Meeting Dates. A scoping information packet will be posted on the project Web site at http://www.provo-oremrapidtransit.info and hard copies of the packet will be distributed on request.

Meeting Dates

Public Scoping Meeting: A public scoping meeting will be held Thursday, January 24, 2008 from 5 p.m. to 7 p.m. at the Provo City Library (550 N University Ave, Provo).

The project's purpose and need, and the initial set of alternatives proposed for study will be presented at this meeting. Comments may be given verbally or in writing at the scoping meeting. Every reasonable effort will be made to meet special needs. The meeting location will be accessible to persons with disabilities. Individuals who require special accommodations, such as sign language interpreter, to participate in the meeting should contact Ms. Sherry L. Repscher, ADA Compliance Officer, Utah Transit Authority, 3600 South 700 West, Salt Lake City, UT 84119-0810 or by telephone at (801) 262-5626 or TDD at (801) 287-4657.

Agency Scoping Meeting: An agency scoping meeting will be held on Wednesday, January 23, 2008, from 9:15 a.m. to 12 p.m. at the Provo City Library (Bullock Room 309), 550 North University Ave, Provo, Utah. The purpose of the meeting is to provide an overview of the project, to allow agencies to determine their level of interest in the project, and to allow agencies to help identify the proposed project's level of impact on environmental, social, and economic resources. The scoping meeting will include a bus tour of the project study area. The bus tour will depart at 9:30 a.m. from the Provo City Library parking lot.

ADDRESSES: Written comments should be sent to the following address by February 28, 2008: Laynee Jones, HW Lochner, 310 East 4500 South, Murray, Utah 84107 or provo-oremrapidtransit@hwlochner.com. The location of the public scoping meeting is given above under Meeting Dates.

FOR FURTHER INFORMATION CONTACT: Charmaine Knighton, Deputy Regional Administrator, Region VIII, Federal Transit Administration, 12300 West Dakota Avenue, Suite 310, Denver, CO 80228. Telephone: 720-963-3327.

SUPPLEMENTARY INFORMATION:

I. Scoping

The FTA, UTA, and MAG invite all interested individuals and organizations, public agencies, and Native American Tribes to comment on the scope of the AA/EIS including the project's purpose and need, alternatives, impacts to be evaluated, and evaluation methods to be used. Comments should focus on refining the purpose and need statement, developing alternatives to meet the purpose and need, and on identifying specific social, economic, or environmental impacts to be evaluated. The scoping period will end February 28, 2008. A scoping information packet will be posted on the project Web site at http://www.provo-oremrapidtransit.info and hard copies of the packet will be distributed on request.

II. Description of Project Study Area and Its Purpose and Need

Known as the Provo-Orem Rapid Transit AA/EIS, this project consists of increasing transit opportunities and maintaining efficient traffic flow in an area that contains two universities, retail malls, employment centers, a historic downtown, and two major regional intermodal centers. The proposed project originated from the Inter-Regional Corridor Alternatives Analysis (IRCAA) completed in 2002 and the Provo/Orem Rapid Transit Corridor Feasibility Study (Feasibility Study) completed in 2005. The Feasibility Study selected Bus Rapid Transit (BRT) as the solution for the increasing transportation demand in Utah County. The BRT project is included in the Mountainland Association of Government's fiscally constrained Long Range Transportation Plan.

Preliminary statement of purpose of and need for the proposed project: The purpose of the project is to serve transit markets along the corridor; provide circulation and distribution for future transit projects including commuter rail; and to accommodate future travel demand while maintaining efficient traffic flow. The needs identified in the previous studies include: enhancing community character, accommodating the ultimate cross-section of the road, meeting traffic demand on the travel lanes, encouraging economic development, and providing a system that is safe, easy, and convenient to use. The public and participating and cooperating agencies are invited to consider and comment on this preliminary statement of the purpose and need for the proposed project.

Projected Ridership. According to preliminary estimates in the Feasibility Study, the project is anticipated to serve 17,000 boardings per day. Brigham Young University is located near the center of the study area and has an enrollment of over 35,000. Most of its students live within 3.5 miles of campus and the feasibility study indicates that 67 percent of students walk to campus. The project area has a strong local ridership base; an on-board survey of UTA bus routes serving Utah County concluded that approximately 52 percent of riders live in Provo and 19 percent live in Orem. Approximately 35 percent of riders were students.

Local Land Use and Economic Development. Provo and Orem are the two largest cities in Utah County. Based on a comparison of Census data from 1990 to 2000, Provo was shown to be the fourth fastest-growing metropolitan area for job creation and the tenth fastest-growing for population. By 2030, Provo is expected to grow to a population of almost 137,000 and Orem is expected to grow to a population of over 107,000. Although the entire study area is growing, population and employment growth are dispersed in different densities along the project corridor. Employment density is projected to increase in particular along University Avenue.

Environmental Process: In accordance with NEPA, SAFETEA-LU section 6002 and FTA's section 5309 New Starts requirements, the project's environmental process has been divided into three general phases: (1) Scoping; (2) Alternatives Analysis/ EIS, selection of the Locally Preferred Alternative (LPA); selection of the Preferred Alternative and (3) Final EIS.

III. Alternatives

The Feasibility Study conducted in 2005 recommended Bus Rapid Transit (BRT) along University Parkway and University Avenue with a detour off University Avenue to serve Brigham Young University (BYU). Because population and employment densities have changed in the study area since 2005, the AA/EIS will evaluate a wide range of fixed guideway alternatives including light rail and Bus Rapid Transit. Bus Rapid Transit includes exclusive transit lanes (either center-running or side-running) and queue jump lanes. The preliminary alternatives will be narrowed to a locally preferred alternative based on updated ridership forecasts. The locally preferred alternative and a No-Action alternative will be evaluated in detail in the EIS resulting in the selection of a Preferred Alternative.

IV. Probable Effects

NEPA requires FTA and UTA to evaluate the significant impacts of the alternatives selected for study in the AA/EIS. Primary issues identified thus far include additional right-of-way takes, business impacts, potential impacts to historic properties, and traffic and accessibility impacts. The impacts will be evaluated for both the construction period and for the long-term period of operation. Measures to mitigate adverse impacts will be developed.

V. FTA Procedures

The regulation implementing NEPA, as well as provisions of the Safe, Accountable, Flexible, Efficient Transportation Equity Act: A Legacy for Users (SAFETEA-LU), call for public involvement in the NEPA process. Section 6002 of SAFETEA-LU requires that the lead agencies (FTA, UTA, and MAG) do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that the lead agencies will not be able to identify all Federal and non-Federal agencies and Native American tribes that may have such an interest. Any Federal or non-Federal agency or Native American tribe interested in the proposed project that does not receive an invitation to become a participating agency should notify Pat Rothacher, Utah Transit Authority, at 3600 South 700 West, Salt Lake City, UT 84119 or prothacher@rideuta.com.

UTA is seeking federal assistance from the FTA to fund the proposed project under 49 United States Code 5309 and will, therefore, be subject to regulations (49 Code of Federal Regulations (CFR) Part 611) related to New Starts projects.

The AA/EIS will be prepared in accordance with NEPA and its implementing regulation issued by the Council on Environmental Quality (40 CFR Parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process. These requirements include, but are not limited to, the environmental and public hearing provisions of Federal transit laws (49 U.S.C. 5301 (e), 5323 (b), and 5324); the project-level air quality conformity regulation of the U.S. Environmental Protection Agency (EPA) (40 CFR Part 93); The section 404 (b)(1) guidelines of EPA (40 CFR Part 230); the regulation implementing section 106 of the National Historic Preservation Act (36 CFR Part 800); the regulation implementing section 7 of the Endangered Species Act (50 CFR Part 402); section 4(f) of the Department of Transportation Act (23 CFR 771.135); and Executive Orders 12898 on environmental justice, 11988 on floodplain management, and 11990 on wetlands.

Issued on: December 14, 2007.
Charmaine Knighton,
Deputy Regional Administrator, Region VIII.

[FR Doc. E7-24861 Filed 12-20-07; 8:45 am]

BILLING CODE 4910-57-P